Proclamation 10609 of August 25, 2023

Women's Equality Day, 2023

By the President of the United States of America

A Proclamation

America is the only Nation in the world based on an idea—the idea that all people are created equal and deserve to be treated equally throughout their lives. We have never fully lived up to that idea, but we have never walked away from it either. On Women's Equality Day, we honor the pioneering suffragists who persisted through decades of struggle to finally win American women the right to vote, and we celebrate the advocates and everyday heroes who have continued the long march for equality ever since. On this day, we recommit to delivering a better future for all of America's daughters and for our Nation.

The 19th Amendment was certified 103 years ago, but more remained to be done—especially for women of color, many of whom fought for the right to vote for another four decades until the Voting Rights Act passed in 1965. Today, women still face discrimination and threats to their health and safety, as well as gaps in pay, access to health care, and caregiving responsibilities. These gaps are often even greater for women and girls of color. Last year, the Supreme Court overturned Roe v. Wade, eliminating a woman's constitutional right to make fundamental decisions about her own body and putting women's health and lives at risk. And we are facing new efforts to suppress the fundamental right to vote and undermine our democracy.

My Administration is committed to realizing the promise of the suffragists, who knew that equality begins at the ballot box and requires women to have a seat at the table. That is why we will keep fighting to pass the John Lewis Voting Rights Advancement Act to restore and strengthen the Voting Rights Act and the Freedom to Vote Act to ensure fair Congressional maps give all Americans an equal chance to be heard. It is also why I have delivered on my promise to build an Administration that looks like America—with courageous leaders like Vice President Kamala Harris and the record number of women who serve in our Nation's first gender-equal Cabinet leading the way. I have also appointed more Black women to Federal appellate courts—including the first Black woman on the Supreme Court, Justice Ketanji Brown Jackson—than all prior Presidents combined. And I established the White House Gender Policy Council to advance gender equity and equality across all domestic and foreign policy.

Equality also means ensuring women's economic security—and I am pleased that a majority of the record 13 million jobs we have added to our economy since I took office are held by women. We are working to ensure women have access to opportunities in sectors like manufacturing and construction, where women have long been underrepresented. I also signed an Executive Order to eliminate discriminatory pay practices and advance pay equity. I have fought for safe and healthy workplaces, including by signing into law long-overdue protections for pregnant, postpartum, and nursing workers. I signed an Executive Order with the most comprehensive set of actions ever to support caregivers and expand child- and long-term care, and we have made other historic investments in affordable child care while requiring firms that receive significant Federal dollars to ensure that high-quality child care is available so parents can actually take the new jobs that we are creating.

We have to ensure women's physical safety as well. As a United States Senator, I wrote the Violence Against Women Act to not only change the laws but also the culture that had allowed the scourge of domestic violence, sexual assault, and other forms of gender-based violence to persist in America. As Vice President and now as President, I have worked to reauthorize and strengthen that law, improving law enforcement training, increasing support for survivors, addressing online harassment and abuse, expanding services for LGBTQI+ survivors, and more. I have also pushed to improve our military justice system, signing into law and implementing bipartisan reforms to better prevent and respond to sexual assault, sexual harassment, and domestic violence in the Armed Forces.

This year, we also mark the 100th anniversary of the introduction of the Equal Rights Amendment. It is long past time to definitively enshrine the principle of gender equality in the Constitution, and I will continue to fight for the Equal Rights Amendment as I have throughout my career. Together we can and must build a future where our daughters have all the same rights and opportunities as our sons, where all women and girls have a chance to realize their God-given potential, and where we can finally realize the full promise of America for all Americans. May we be a Nation worthy of the abilities and ambitions of our women and girls.

NOW, THEREFORE, I, JOSEPH R. BIDEN JR., President of the United States of America, by virtue of the authority vested in me by the Constitution and the laws of the United States, do hereby proclaim August 26, 2023, as Women's Equality Day. I call upon the people of the United States to celebrate and continue to build on our country's progress toward gender equality and to defend and strengthen the right to vote.

IN WITNESS WHEREOF, I have hereunto set my hand this twenty-fifth day of August, in the year of our Lord two thousand twenty-three, and of the Independence of the United States of America the two hundred and forty-eighth.

[FR Doc. 2023-18883

Filed 8-29-23; 8:45 am]

Billing code 3395-F3-P